SECURITIES AND EXCHANGE COMMISSION

[Release No. 34-46631; File No. SR-NYSE-2002-24]

Self-Regulatory Organizations; Order Granting Approval of Proposed Rule Change by the New York Stock Exchange, Inc. (“NYSE”) to Amend NYSE Rule 342 (“Offices—Approval, Supervision and Control”)

October 9, 2002.

On July 12, 2002, the New York Stock Exchange, Inc. (“NYSE”) filed with the Securities and Exchange Commission (“Commission”), pursuant to Section 19(b)(1) of the Securities Exchange Act of 1934 (“Act”) ¹ and Rule 19b-4 thereunder,² a proposed rule change to amend NYSE Rule 342 (“Offices—Approval, Supervision and Control”). The proposed amendments would recognize the National Association of Securities Dealers' General Securities Principal Examination (“Series 24 Examination”) as an acceptable qualification alternative to the General Securities Sales Supervisor Qualification Examination (“Series 9/10 Examination”) for supervisory persons whose duties do not include the supervision of options or municipal securities sales activity. In addition, the amendments update and clarify certain provisions of the Rule. The NYSE filed an amendment to the proposed rule change on August 16, 2002.³ The proposed rule change, as amended, was published for notice and comment in the Federal Register on September 5, 2002.⁴ The Commission received no comments on the proposed rule change.

¹ 15 U.S.C. 78s(b)(1).

² 17 CFR 240.19b-4.

³ See letter from Mary Yeager, Assistant Secretary, NYSE, to Nancy Sanow, Assistant Director, Division of Market Regulation, Commission, dated August 15, 2002, and attachments (“Amendment No. 1”).

⁴ Securities Exchange Act Release No. 46425 (August 28, 2002), 67 FR 56863.

The Commission finds that the proposed rule change is consistent with the requirements of the Act and the rules and regulations thereunder applicable to a national securities exchange ⁵ and, in particular, the requirements of Section 6 of the Act ⁶ and the rules and regulations thereunder. The Commission believes that the NYSE's amendments to NYSE Rule 342 to eliminate, when possible, duplicative examination qualification requirements and to update and clarify certain provisions of the Rule are reasonable.

⁵ In approving this proposed rule change, the Commission has considered the proposed rule's impact on efficiency, competition, and capital formation. 15 U.S.C. 78c(f).

⁶ 15 U.S.C. 78f.

IT IS THEREFORE ORDERED, pursuant to Section 19(b)(2) of the Act,⁷ that the proposed rule change, as amended (SR-NYSE-2002-24), be, and hereby is, approved.

⁷ 15 U.S.C. 78s(b)(2).

For the Commission, by the Division of Market Regulation, pursuant to delegated authority.⁸
⁸ 17 CFR 200.30-3(a)(12).
Margaret H. McFarland,
Deputy Secretary.

[FR Doc. 02-26395 Filed 10-16-02; 8:45 am]

BILLING CODE 8010-01-P